DEPARTMENT OF TRANSPORTATION

Federal Aviation Administration

[Summary Notice No. PE-2004-33]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on May 19, 2004.
Donald P. Byrne,
Assistant Chief Counsel for Regulations.

Dispositions of Petitions

Docket No.: FAA-2002-13275.

Petitioner: Frankfort Flight Service, Inc.

Section of 14 CFR Affected: 14 CFR 135.143(c)(2).

Description of Relief Sought/Disposition: To permit Frankfort Flight Service, Inc., to operate certain aircraft under part 135 without a TSO-C112 (Mode S) transponder installed on those aircraft.

Grant, 5/5/2004, Exemption No. 7888A

Docket No.: FAA-2001-9502.

Petitioner: AMI Jet Charter, Inc./TAG Aviation d/b/a. Section of 14 CFR Affected: 14 CFR 135.152(i)(1).

Description of Relief Sought/Disposition: To permit AMI Jet Charter, Inc./TAG Aviation d/b/a, to operate a Dassault Falcon 50-900EX aircraft without meeting the digital flight data recorder requirements established by the Federal Aviation Administration.

Denial, 5/4/2004, Exemption No. 8310

Docket No.: FAA-2001-10955.

Petitioner: LC Busre E.I.R.L.

Section of 14 CFR Affected: 14 CFR 135.152.

Description of Relief Sought/Disposition: To permit LC Busre E.I.R.L., to operate a Fairchild Metroliner III SA-227-AC airplane, registration No. N139LC, in a 19-passenger configuration under part 135, without the airplane being equipped with one or more digital flight data recorders.

Denial, 5/4/2004, Exemption No. 8311

Docket No.: FAA-2004-17409.

Petitioner: United Parcel Service.

Section of 14 CFR Affected: 14 CFR 121.434(c)(1) and (2).

Description of Relief Sought/Disposition: To permit a United Parcel Service check airman to take a rest period during the cruise portion of a flight leg in which the check airman is observing the operating experience of a qualifying crewmember.

Denial, 5/4/2004, Exemption No. 8308

Docket No.: FAA-2004-17514.

Petitioner: Mr. Adrian A. Eichhorn.

Section of 14 CFR Affected: 14 CFR 91.109(a) and (b)(3).

Description of Relief Sought/Disposition: To permit Mr. Adrian A. Eichhorn to conduct certain flight training and to provide simulated instrument flight experience in certain Beech airplanes that are equipped with a functioning throwover control wheel.

Grant, 5/4/2004, Exemption No. 8307

Docket No.: FAA-2004-17600.

Petitioner: Barth's Aviation.

Section of 14 CFR Affected: 14 CFR 61.89(a)(5) and 61.111(b).

Description of Relief Sought/Disposition: To permit Mr. Maxime Desouches' student pilots of Barth's Aviation, to conduct solo flights between the French islands of Saint Bathelemy, Saint Martin and Guadeloupe, the Dutch islands of Sint Maarten, Sint Eustatius in the Netherlands Antilles and the islands of the Federation of St. Kitts and Nevis in the eastern Carribbean while fulfilling the cross-country requirements for a private pilot certificate.

Grant, 5/4/2004, Exemption No. 8309

Docket No.: FAA-2002-12343.

Petitioner: Federal Express Corporation.

Section of 14 CFR Affected: 14 CFR 121.434(c)(1)(ii).

Description of Relief Sought/Disposition: To permit the Federal Express Corporation to substitute a qualified and authorized check airman in place of a Federal Aviation Administration inspector to observe a qualifying pilot in command who is completing the initial or upgrade training specified in § 121.424 during at least one flight leg that includes a takeoff and a landing, subject to certain conditions and limitations.

Grant, 5/4/2004, Exemption No. 6473D

Docket No.: FAA-2002-12728.

Petitioner: National Business Aviation Association, Inc.

Section of 14 CFR Affected: 14 CFR 91.409(e) and 91.501(a).

Description of Relief Sought/Disposition: To permit National Business Aviation Association, Inc., members to operate small civil airplanes and helicopters of U.S. registry under the operating rules of §§ 91.503 through 91.535 and to select an inspection program as described in § 91.409(f), subject to certain conditions and limitations.

Grant, 5/3/2004, Exemption No. 7897A

Docket No.: FAA-2004-17609.

Petitioner: Rugby Aviation, LLC.

Section of 14 CFR Affected: 14 CFR 135.143(c)(2).

Description of Relief Sought/Disposition: To permit Rugby Aviation, LLC, to operate certain aircraft under part 135 without a TSO-C112 (Mode S) transponder installed on those aircraft.

Grant, 5/3/2004, Exemption No. 8305

Docket No.: FAA-2004-17631.

Petitioner: JIM Air, Inc.

Section of 14 CFR Affected: 14 CFR 135.143(c)(2).

Description of Relief Sought/Disposition: To permit JIM Air, Inc., to operate certain aircraft under part 135 without a TSO-C112 (Mode S) transponder installed on those aircraft.

Grant, 5/3/2004, Exemption No. 8304

Docket No.: FAA-2004-17663.

Petitioner: Excel Aviation, LLC.

Section of 14 CFR Affected: 14 CFR 135.143(c)(2).

Description of Relief Sought/Disposition: To permit Excel Aviation, LLC, to operate certain aircraft under part 135 without a TSO-C112 (Mode S) transponder installed on those aircraft.

Grant, 5/3/2004, Exemption No. 8303

Docket No.: FAA-2004-17633.

Petitioner: Moore Quality Flying.

Section of 14 CFR Affected: 14 CFR 135.143(c)(2).

Description of Relief Sought/Disposition: To permit Moore Quality Flying to operate certain aircraft under part 135 without a TSO-C112 (Mode S) transponder installed on those aircraft.

Grant, 5/3/2004, Exemption No. 8302

Docket No.: FAA-2004-17632.

Petitioner: Alaska Air Transit.

Section of 14 CFR Affected: 14 CFR 135.143(c)(2).

Description of Relief Sought/Disposition: To permit Alaska Air Transit to operate certain aircraft under part 135 without a TSO-C112 (Mode S) transponder installed on those aircraft.

Grant, 5/3/2004, Exemption No. 8301

Docket No.: FAA-2001-9331.

Petitioner: Pratt & Whitney.

Section of 14 CFR Affected: 14 CFR 21.325(b)(3).

Description of Relief Sought/Disposition: To permit authorized representatives employed by Pratt & Whitney ODAR to issue export airworthiness approvals for Class II and Class II products manufactured and located at Pratt & Whitney suppliers located in Germany, Italy, Japan, and Sweden.

Grant, 4/28/2004, Exemption No. 7915A

Docket No.: FAA-2002-11799.

Petitioner: Matsushita Avionics Systems Corporation.

Section of 14 CFR Affected: 14 CFR 21.325(b)(3).

Description of Relief Sought/Disposition: To permit Matsushita Avionics Systems Corporation (MAS) airworthiness representatives, reporting to an ODAR at MAS Bothell, to issue export airworthiness approvals for Class III products manufactured by MAS Osaka.

Grant, 4/28/2004, Exemption No. 7925A

Docket No.: FAA-2002-11900.

Petitioner: AM-SAFE Aviation, Inc.

Section of 14 CFR Affected: 14 CFR 21.325(b)(3).

Description of Relief Sought/Disposition: To permit AM-SAFE Aviation, Inc., (AMSAFE) to issue export airworthiness approvals for Class II and Class III products manufactured by AMSAFE Aviation UK in the United Kingdom under AMSAFE's technical standard order authorizations.

Grant, 4/28/2004, Exemption No. 7354B

Docket No.: FAA-2004-16911.

Petitioner: American Airlines, Inc.

Section of 14 CFR Affected: 14 CFR 121.434(c)(1) and (2).

Description of Relief Sought/Disposition: To permit an American Airlines, Inc., (AAL) check airman to take a rest period during the cruise portion of a flight leg in which the check airman is required to supervise the operating experience of a qualifying AAL pilot in command or a qualifying AAL second in command.

Denial, 5/1/2004, Exemption No. 8300

Docket No.: FAA-2002-13134.

Petitioner: Ram Air Freight, Inc.

Section of 14 CFR Affected: 14 CFR 135.143(c)(2).

Description of Relief Sought/Disposition: To permit Ram Air Freight, Inc., to operate certain aircraft under part 135 without a TSO-C112 (Mode S) transponder installed on those aircraft.

Grant, 5/3/2004, Exemption No. 7876A

Docket No.: FAA-2002-13178.

Petitioner: Cedar Valley Air Charter.

Section of 14 CFR Affected: 14 CFR 135.143(c)(2).

Description of Relief Sought/Disposition: To permit Cedar Valley Air Charter to operate certain aircraft under part 135 without a TSO-C112 (Mode S) transponder installed on those aircraft.

Grant, 5/3/2004, Exemption No. 7880A

Docket No.: FAA-2001-11080.

Petitioner: Experimental Aircraft Association, Small Aircraft Manufacturers Association, and National Association of Flight Instructors.

Section of 14 CFR Affected: 14 CFR 91.319(a)(1) and (2).

Description of Relief Sought/Disposition: To permit the members of the Experimental Aircraft Association, Small Aircraft Manufacturers Association, and the National Association of Flight Instructors who own certain amateur-and kit-built aircraft certificated in the experimental category, to receive compensation for the use of the aircraft for the purpose of conducting aircraft-specific flight training and flight reviews under 14 CFR 61.56.

Grant, 5/2/2004, Exemption No. 7162C

Docket No.: FAA-2002-13346.

Petitioner: Westjet Air Center, Inc.

Section of 14 CFR Affected: 14 CFR 135.143(c)(2).

Description of Relief Sought/Disposition: To permit Westjet Air Center, Inc., to operate certain aircraft under part 135 without a TSO-C112 (Mode S) transponder installed on those aircraft.

Grant, 4/30/2004, Exemption No. 7881A

Docket No.: FAA-2003-15969.

Petitioner: Northern Air Cargo, Inc.

Section of 14 CFR Affected: 14 CFR 121.345(c)(2).

Description of Relief Sought/Disposition: To permit Northern Air Cargo, Inc., to operate certain aircraft under part 121 without a TSO-C112 (Mode S) transponder installed on those aircraft.

Grant, 4/30/2004, Exemption No. 8121A

Docket No.: FAA-2002-12097.

Petitioner: Mirabella Aviation.

Section of 14 CFR Affected: 14 CFR 135.143(c)(2).

Description of Relief Sought/Disposition: To permit Mirabella Aviation to operate certain aircraft under part 135 without a TSO-C112 (Mode S) transponder installed on those aircraft.

Grant, 4/29/2004, Exemption No. 7178B

Docket No.: FAA-2002-11498.

Petitioner: Air Tractor, Inc.

Section of 14 CFR Affected: 14 CFR 61.31(a)(1).

Description of Relief Sought/Disposition: To permit Air Tractor, Inc., and pilots of Air Tractor AT-802 and AT-802A airplanes to operate those airplanes without holding a type rating, although the maximum gross weight of the airplanes exceeds 12,500 pounds.

Grant, 4/27/2004, Exemption No. 5651H

[FR Doc. 04-11785 Filed 5-24-04; 8:45 am]

BILLING CODE 4910-13-P